DEPARTMENT OF TRANSPORTATION

Federal Aviation Administration

Notice of Intent To Rule on Request To Release Airport Property at Baton Rouge Metropolitan Airport, Baton Rouge, LA

AGENCY: Federal Aviation Administration, DOT.

ACTION: Request for public comment.

SUMMARY: The FAA proposes to rule and invites public comment on the release of surplus property land at the Baton Rouge Metropolitan Airport under the provisions of Title 49, U.S.C. Section 47153(c).

DATES: Comments must be received on or before April 9, 2009.

ADDRESSES: Comments on this application may be mailed or delivered to the FAA at the following address:

Mr. Lacey D. Spriggs, Manager, Federal Aviation Administration, Southwest Region, Airports Division, Louisiana/New Mexico Airports Development Office, ASW-640, Fort Worth, Texas 76137-4298.

In addition, one copy of any comments submitted to the FAA must be mailed or delivered to Mr. Anthony Marino, Director of Aviation, Baton Rouge Metropolitan Airport at the following address: Baton Rouge Metropolitan Airport, Terminal Building, Suite 300, 9430 Jackie Cochran Drive, Baton Rouge, Louisiana 76137-4298.

FOR FURTHER INFORMATION CONTACT: Ilia A. Quinones, Program Manager, Federal Aviation Administration, Louisiana/New Mexico Airports Development Office, ASW-640, 2601 Meacham Boulevard, Fort Worth, Texas 76137-4298.

The request to release property may be reviewed in person at this same location.

SUPPLEMENTARY INFORMATION: The FAA invites public comment on the airport sponsor's request to release property at the Baton Rouge Metropolitan Airport.

On February 4, 2009 the FAA determined that the request to release property at the Baton Rouge Metropolitan Airport submitted by the City of Baton Rouge/Parish of East Baton Rouge met the procedural requirements of the Federal Aviation regulations, Part 155. The FAA may approve the request, in whole or in part, no later than March 31, 2009.

The City of Baton Rouge/Parish of East Baton Rouge requests the release of ± 1.115 acres (48,569 square feet) of airport property. The release of this airport property along the existing Harding Boulevard will allow for the sale of a portion of said site, also known as Lot #22, to proceed. The sale is estimated to provide $486,000.00 to the City of Baton Rouge/Parish of East Baton Rouge that will allow the City of Baton Rouge/Parish of East Baton Rouge to market subject property for highest and best use, which is deemed to be commercial development. The proceeds obtained from the sale of the land to the highest bidder will be used in the operation and maintenance of the Baton Rouge Metropolitan Airport.

Any person may inspect the request in person at the FAA office listed above under FOR FURTHER INFORMATION CONTACT.

In addition, any person may, upon request, inspect the application, notice and other documents germane to the application in person at the Baton Rouge Metropolitan Airport.

Issued in Fort Worth, Texas on February 26, 2009.
Lacey D. Spriggs,
Acting Manager, Airports Division.

[FR Doc. E9-4955 Filed 3-9-09; 8:45 am]

BILLING CODE 4910-13-M